DEPARTMENT OF ENERGY

Federal Energy Regulatory Commission

[Docket No. RP00-263-000]

Northern Natural Gas Company; Notice of Proposed Changes in FERC Gas Tariff

May 4, 2000.

Take notice that on May 1, 2000, Northern Natural Gas Company (Northern) tendered for filing changes in its FERC Gas Tariff, Fifth Revised Volume No. 1 the following tariff sheets proposed to be effective June 1, 2000.

Fourth Revised Sheet No. 267

Fifth Revised Sheet No. 268

Third Revised Sheet No. 269

First Revised Sheet No. 269A

Original Sheet No. 269B

Northern states that the purpose of this filing is to revise the tariff provisions relating to the price to resolve monthly imbalances. Specifically, Northern proposes to replace the Monthly Average Index Price with High, Low and Average Weekly System and Field Index Prices. Northern is proposing a pricing mechanism whereby the imbalance is valued based on an average weekly index price that differs for payable and receivable imbalances.

Northern further states that copies of the filing have been mailed to each of its customers and interested State Commission.

Any person desiring to protest this filing should file a protest with the Federal Energy Regulatory Commission, 888 First Street, N.E., Washington, D.C. 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-11620 Filed 5-9-00; 8:45 am]

BILLING CODE 6717-01-M